DEPARTMENT OF THE INTERIOR

Bureau of Land Management

[LLCON05000 L16100000.DU0000]

Notice of Intent To Amend the Resource Management Plan for the White River Field Office and Prepare an Associated Environmental Assessment for Travel and Transportation Management, Colorado

AGENCY: Bureau of Land Management, Interior

ACTION: Notice.

SUMMARY: In compliance with the National Environmental Policy Act of 1969, as amended (NEPA); and the Federal Land Policy and Management Act of 1976, as amended (FLPMA); the Bureau of Land Management (BLM) White River Field Office (WRFO), Meeker, Colorado, intends to prepare a Resource Management Plan (RMP) amendment with an associated Environmental Assessment (EA) for the WRFO. By this notice the WRFO is announcing the beginning of the scoping process to solicit public comments and identify issues.

DATES: Comments on issues may be submitted in writing until November 16, 2015. The BLM will announce the date(s) and location(s) of any scoping meetings at least 15 days in advance through local news media, newspapers and the BLM Web site at: http://www.blm.gov/co/st/en/fo/wrfo.html. The BLM must receive all comments prior to the close of the 30-day scoping period or 15 days after the last public meeting, whichever is later, in order for them to be included in the analysis. We will provide additional opportunities for public participation as appropriate.

ADDRESSES: You may submit comments on issues and planning criteria related to the WRFO's Travel and Transportation Management RMP amendment/EA by any of the following methods:

• Web site: http://www.blm.gov/co/st/en/fo/wrfo.html.

• Email: blm_co_wrfo_tmp@blm.gov.

• Fax: 970-989-3805.

• Mail: BLM, White River Field Office, 220 East Market St., Meeker, CO 81641.

Documents pertinent to this proposal may be examined at the White River FO.

FOR FURTHER INFORMATION CONTACT: Heather Sauls, Planning and Environmental Coordinator; telephone 970-878-3855; address White River FO (see address above); email hsauls@blm.gov. Contact Ms. Sauls to have your name added to our mailing list. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: This document provides notice that the WRFO, Meeker, Colorado, intends to prepare an RMP amendment with an associated EA for the White River Planning Area, announces the beginning of the scoping process, and seeks public input on issues and planning criteria. The RMP amendment will address comprehensive transportation and travel management planning and will amend the 1997 WRFO RMP. At a minimum, the RMP amendment will consider designation of all public lands within the planning area as “open areas” for off-road vehicle use, “limited areas” for off-road vehicle use, or “closed areas” to off-road vehicle use. The RMP amendment will also consider whether to further restrict other modes of transport (e.g., mechanized and non-motorized) through area allocations and allowable use decisions. The BLM will also address whether or not exceptions should be granted within closed or limited areas and provide general direction for how to address resource conflicts during future implementation-level planning. The planning area is located in Rio Blanco, Moffat and Garfield counties, Colorado, and encompasses approximately 1.5 million acres of public land.

The purpose of the public scoping process is to determine relevant issues that will influence the scope of the environmental analysis, including alternatives, and guide the planning process. BLM personnel; Federal, State and local agencies; and other stakeholders identified the following preliminary issues for the RMP amendment area:

• Is there a recreational need for an open area?

• Are there areas that should be managed with seasonal closures on motorized vehicle use to allow for non-motorized hunting experiences?

• Should the White River FO provide exceptions for off-road motorized travel in limited areas for the purposes of camping, firewood gathering, or retrieval of downed big game?

• Should the WRFO provide exceptions for physically challenged individuals to travel off-road?

• Should the WRFO limit motorized over-the-snow travel by vehicle type, season, snow-depth, or other conditions?

• Should Pike Ridge be managed as closed to motorized vehicles?

• Should travel on existing energy and mineral development access roads be restricted to authorized use?

• Should right-of-way exclusion areas also be managed as closed areas?

• What types of uses are appropriate (e.g., motorized, mechanized, horseback) within right-of-way avoidance and exclusion areas?

• Should the WRFO implement seasonal or permanent road or trail closures in Greater Sage-Grouse habitat?

• Should construction of new roads be allowed within lands with wilderness characteristics?

• What types of uses are appropriate (e.g., motorized, mechanized, horseback) within lands with wilderness characteristics?

Preliminary Planning Criteria Include

1. The RMP amendment will be limited to making land use planning decisions specific to transportation and travel management.

2. The BLM will designate all public lands within the planning area as open, limited, or closed areas to off-road vehicle use.

3. Lands addressed in the RMP amendment will be surface lands managed by the BLM and will not include split-estate lands (i.e., private surface with Federal mineral estate).

4. The RMP amendment, if approved, will comply with FLPMA, NEPA, Council on Environmental Quality regulations at 40 CFR 1500-1508, Department of the Interior regulations at 43 CFR 46 and 43 CFR 1600, the BLM Land Use Planning Handbook (H-1601-1), the BLM NEPA Handbook (H-1790-1), the BLM Travel and Transportation Management Handbook (H-8342-1), and all other applicable laws and BLM policies and guidance.

5. Land use decisions in Greater Sage-Grouse habitat considered in the RMP amendment will be consistent with land use decisions in the Northwest Colorado Greater Sage-Grouse RMP amendment.

6. The RMP amendment will recognize valid existing rights.

7. The BLM will use a collaborative approach to planning.

8. The BLM will consult with Indian tribes to identify sites, areas and objectives important to their cultural and religious heritage.

9. The BLM will coordinate and communicate with State, local and tribal governments to ensure the BLM considers provisions of pertinent plans; seek to resolve inconsistencies between State, local and tribal plans; and provide ample opportunities for State, local and tribal governments to comment on the development of the amendment.

10. The BLM will address socioeconomic and Environmental Justice impacts of the alternatives.

11. Land use allocations made for Wilderness Study Areas (WSA) must be consistent with the BLM Management of WSA manual (BLM Manual 6330) and with other laws, regulations and policies related to WSA management.

12. The BLM will consider public welfare and safety when addressing fire management in the context of travel and transportation management planning.

13. The BLM will not consider creating any new special designations, such as Areas of Critical Environmental Concern, through this RMP amendment.

14. The BLM will conduct implementation (route-by-route designations) travel management planning in a separate effort subsequent to completing this RMP amendment.

You may submit comments on issues and planning criteria in writing to the BLM at any public scoping meeting, or you may submit them to the BLM using one of the methods listed in the ADDRESSES section above. To be most helpful, you should submit comments by the close of the 30-day scoping period or within 15 days after the last public meeting, whichever is later.

The BLM will use the NEPA public participation requirements to assist in satisfying the public involvement requirements under Section 106 of the National Historic Preservation Act (NHPA) (16 U.S.C. 470(f)) pursuant to 36 CFR 800.2(d)(3). The information about historic and cultural resources within the area potentially affected by the proposed action will assist the BLM in identifying and evaluating impacts to such resources in the context of both NEPA and Section 106 of the NHPA.

The BLM will consult with Indian tribes on a government-to-government basis in accordance with Executive Order 13175 and other policies. The BLM will give tribal concerns, including impacts on Indian trust assets and potential impacts to cultural resources, due consideration. Federal, State and local agencies, along with tribes and other stakeholders that may be interested in or affected by the proposed action the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

The BLM will evaluate identified issues to be addressed in the plan, and will place them into one of three categories:

1. Issues to be resolved in the RMP amendment;

2. Issues to be resolved through policy or administrative action; or

3. Issues beyond the scope of this RMP amendment.

The BLM will provide an explanation in the Draft RMP amendment/preliminary EA as to why an issue was placed in category two or three. The BLM also encourages the public to help identify any management questions and concerns that should be addressed in the plan. The BLM will work collaboratively with interested parties to identify the management decisions that are best suited to local, regional, and national needs and concerns.

The BLM will use an interdisciplinary approach to develop the plan amendment in order to consider the variety of resource issues and concerns identified. Specialists with expertise in the following disciplines will be involved in the planning process: Rangeland management, vegetation, riparian and wetlands, invasive and noxious weeds, minerals and geology, forestry, outdoor recreation, visual resource management, cultural resources and Native American concerns, paleontology, wildlife and fisheries, threatened and endangered species, lands and realty, hydrology, soils, wild horses, fire ecology and management, sociology and economics, public safety, law enforcement, and geographic information systems.

Authority: 40 CFR 1501.7 and 43 CFR 1610.2.

Ruth Welch,
BLM Colorado State Director.

[FR Doc. 2015-26370 Filed 10-15-15; 8:45 am]

BILLING CODE 4310-JB-P